DEPARTMENT OF HEALTH AND HUMAN SERVICES

Justification for a Single Source Cooperative Agreement Award for the U.S.-Mexico Foundation for Science

AGENCY: Department of Health and Human Services, Office of the Assistant Secretary for Preparedness and Response

ACTION: Notice.

SUMMARY: The Department of Health and Human Services (HHS) Office of the Assistant Secretary for Preparedness and Response (ASPR) intends to provide a Single Source Cooperative Agreement Award to the U.S.-Mexico Foundation for Science (Fundación México-Estados Unidos para la Ciencia [FUMEC]), who will be the awardee for project activities carried out by Mexico's Ministry of Health (MOH). This Cooperative Agreement will contribute to enhancing global health security and advancing the implementation and maintenance of International Health Regulations (IHR) (2005) core capacities in Mexico. Specifically, ASPR, in close coordination with the HHS Centers for Disease Control and Prevention (CDC) and other U.S. Government (USG) stakeholders, will collaborate with FUMEC and the Mexican MOH to sustain and strengthen preparedness, detection, and communication capacities for pandemic influenza and other emerging and re-emerging infectious diseases in Mexico, focusing on IHR National Focal Point and Points of Entry capacities. Recognizing that the health security of the American people is intrinsically linked to the world's health security and that international cooperation is critical to enhance global health security, this program is aligned with Article 44 of the IHR (2005), which directs state parties to collaborate to detect, assess, and respond to events, while developing, strengthening, and maintaining core public health surveillance and response capacities. Additionally, this program intends to support the collaboration with the Mexican MOH under the North American Plan for Animal and Pandemic Influenza (NAPAPI).

Period Of Performance: September 30, 2014 to September 29, 2017.

FOR FURTHER INFORMATION CONTACT: Please submit an inquiry via the ASPR Division of International Health Security—IHR Program Contact Form located at http://www.phe.gov/Preparedness/international/ihr/Pages/IHRInquiry.aspx.

SUPPLEMENTARY INFORMATION: Pursuant to Sections 301, 307, 1701, and 2811 of the Public Health Service Act, 42 U.S.C. 241, 242l, 300u and 300hh-10. The Division of International Health Security in the Office of Policy and Planning is the program office for this award.

Justification: Significant food trade links and interactions with Mexico under the North American Free Trade Act (NAFTA), and the shared and highly trafficked U.S.-Mexico border, speak to the need for close bilateral cooperation in health security for both nations. Both countries have had a long and close relationship in supporting and improving our ability to respond to public health events and emergencies of mutual interest when they arise. Such cooperation, including strengthening of binational capacities to advance IHR (2005) implementation, is critical to protect the health of our populations and to enhance regional health security.

Recognizing the importance of the IHR (2005) mandate for state parties to collaborate with each other, particularly those sharing borders, ASPR has had a strong collaboration with the Mexican MOH to jointly strengthen health security through a series of cooperative agreements and regional and multilateral initiatives. ASPR, in close collaboration with the CDC, the Office of Global Affairs, and the National Institutes of Health, supported since 2006 the Mexican federal and state health agencies to build and enhance public health preparation and response capabilities to pandemic influenza and bioterrorism threats. Major accomplishments from that collaboration included: Completion of a biosafety level 3 laboratory at the national Institute of Diagnostic and Epidemiological Reference (Instituto de Diagnóstico y Referencia Epidemiológicos [InDRE]); inclusion of InDRE as the first international member of the CDC's Laboratory Response Network; enhancement of the infrastructure and functioning of the Unit for Epidemiological Intelligence; the development of an early warning disease surveillance system (AlertaMex); and training for public health personnel on detection, surveillance, and public health preparedness and response strategies and processes, among others. Additionally, in recognition of the importance of regional collaborations to advance health security, Mexico and the United States are part of the Global Health Security Initiative, and in collaboration with Canada, in 2012 the leaders of the three countries launched the NAPAPI to advance pandemic influenza preparedness and response capacities. Additionally, in 2012, the Secretaries of Health of both countries signed a declaration formally adopting a shared set of technical guidelines that both countries will follow to respond to public health events and emergencies of mutual interest.

Stemming from this successful collaboration and shared motivation, ASPR intends to collaborate with FUMEC and Mexico's National Center for Prevention Programs and Disease Control (Centro Nacional de Programas Preventivos y Control de Enfermedades [CENAPRECE]) on a program to enhance regional and global health security by strengthening IHR (2005) implementation and maintenance. Primary program activities will include improving and strengthening IHR (2005) core capacities including detection, assessment, notification, and response, with focus on pandemic influenza and other emerging and re-emerging infectious diseases. FUMEC, created in 1993 in the context of the NAFTA agreement, will serve as the awardee for this program and CENAPRECE will implement the technical activities within the program. FUMEC is a nonprofit organization and the only binational organization sanctioned by both governments to facilitate funds movement and implement binational scientific, public health, and technology programs. With a mission to promote binational collaboration in science and technology to solve problems of common interest to the United States and Mexico, FUMEC is well experienced to serve in this role, as it has been the awardee of the U.S.-Mexico's Early Warning Infectious Disease program and of other binational programs between CDC and the Mexican MOH. In addition, ASPR and CENAPRECE will collaborate with other stakeholders including the Mexican MOH Directorate General of Epidemiology in Mexico, CDC, and the Pan American Health Organization.

Supporting global health security, IHR (2005) implementation, and pandemic influenza preparedness is a national priority as it is crucial for protecting the health of all Americans. After careful and thorough consideration of other potential partners for this program, FUMEC's and CENAPRECE's proven abilities to effectively achieve program goals, and their alignment with ASPR's mission and priorities, make these organizations the only appropriate partners for the proposed program. In keeping with its mission to enhance and protect the American population's health, ASPR, through a cooperative agreement with FUMEC, will continue its partnership with the Mexican MOH by implementing this proposed program to strengthen pandemic influenza preparedness and advance IHR (2005) implementation and maintenance in neighboring Mexico.

Procedures for Providing Public Input: All written comments must be received prior to September 30, 2014. Please submit comments via the ASPR Division of International Health Security—IHR Programs Contact Form located at http://www.phe.gov/Preparedness/international/ihr/Pages/IHRInquiry.aspx.

Dated: July 18, 2014.
Nicole Lurie,
Assistant Secretary for Preparedness and Response.

[FR Doc. 2014-17453 Filed 7-23-14; 8:45 am]

BILLING CODE 4150-37-P